DEPARTMENT OF HOMELAND SECURITY

U.S. Customs and Border Protection

19 CFR Chapter I

Arrival Restrictions Applicable to Flights Carrying Persons Who Have Recently Traveled From or Were Otherwise Present Within Uganda

AGENCY: U.S. Customs and Border Protection, Department of Homeland Security.

ACTION: Announcement of arrival restrictions.

SUMMARY: This document announces the decision of the Secretary of the Department of Homeland Security (DHS) to direct all flights to the United States carrying persons who have recently traveled from, or were otherwise present within, Uganda to arrive at one of the United States airports where the United States government is focusing public health resources to implement enhanced public health measures. For purposes of this document, a person has recently traveled from Uganda if that person departed from, or was otherwise present within, Uganda within 21 days of the date of the person's entry or attempted entry into the United States. Also, for purposes of this document, crew and flights carrying only cargo (i.e., no passengers or non-crew), are excluded from the measures herein.

DATES: The arrival restrictions apply to flights departing after 11:59 p.m. Eastern Daylight Time on October 10, 2022. Arrival restrictions continue until cancelled or modified by the Secretary of DHS and notice of such cancellation or modification is published in the Federal Register.

FOR FURTHER INFORMATION CONTACT: Stephanie Watson, Office of Field Operations, U.S. Customs and Border Protection at 202-255-7018.

SUPPLEMENTARY INFORMATION:

Background

Ebola disease, caused by the virus genus Ebolavirus, is a severe and often fatal disease that can affect humans and non-human primates. Disease transmission occurs via direct contact with bodily fluids (e.g., blood, mucus, vomit, urine). The first known Ebola disease outbreak occurred in 1976. From 2013-2016, the largest recorded Ebola disease outbreak occurred in West Africa, primarily affecting Guinea, Liberia, and Sierra Leone, with cases exported to seven additional countries across three continents, including the United States. The epidemic demonstrated the potential for Ebola disease to become an international crisis in the absence of early intervention. Further, Ebola disease can have substantial medical, public health, and economic consequences if it spreads to densely populated areas. As such, Ebola disease may present a threat to United States health security given the unpredictable nature of outbreaks and the interconnectedness of countries through global travel.

On September 19, 2022, Uganda reported a single, fatal case of Ebola disease due to the Sudan virus (species Sudan ebolavirus). Earlier in September 2022, community reports had described occurrences of strange illness and sudden deaths in the affected area. Some of these unexplained deaths were in persons who had known contact with the index patient. As of October 4, 2022, a total of 43 confirmed cases with 10 confirmed deaths have been reported from five districts within Uganda Centers for Disease Control and Prevention (CDC) has issued an Alert—Level 2, Practice Enhanced Precautions advising against non-essential travel to several regions in Uganda where the Ministry of Health in Uganda has declared an Ebola virus outbreak.¹ The Centers for Disease Control and Prevention (CDC) is closely monitoring an outbreak of Ebola virus in five districts within Uganda. In order to assist in preventing or limiting the introduction and spread of this communicable disease into the United States, the Departments of Homeland Security and Health and Human Services, including CDC, and other agencies charged with protecting the homeland and the American public, are currently implementing enhanced public health measures at five United States. airports that receive the largest number of travelers originating from Uganda. To ensure that all travelers with recent presence in Uganda arrive at one of these airports, DHS is directing all flights to the United States carrying such persons to arrive at airports where enhanced public health measures are being implemented. While DHS, in coordination with other applicable federal agencies, anticipates working with the operators of aircraft in an endeavor to identify potential travelers who have recently traveled from, or were otherwise present within, Uganda prior to boarding, operators of aircraft will remain obligated to comply with the requirements of this notice. Department of Defense (DoD) flights, via either military aircraft or contract flights, will be managed by DoD in accordance with HHS guidelines.

¹ CDC, Ebola in Uganda Alert—Level 2, Practice Enhanced Precautions, CDC (Oct. 4, 2022), https://wwwnc.cdc.gov/travel/notices/alert/ebola-in-uganda.

Notice of Arrival Restrictions Applicable to All Flights Carrying Persons Who Have Recently Traveled From or Were Otherwise Present Within Uganda

Pursuant to 6 U.S.C. 112(a), 19 U.S.C. 1433(c), and 19 CFR 122.32, DHS has the authority to limit the locations where all flights entering the United States from abroad may land. Under this authority and effective for flights departing after 11:59 p.m. Eastern Daylight Time on October 10, 2022, I hereby direct all operators of aircraft to ensure that all flights (with the exception of those operated or contracted by DoD) carrying persons who have recently traveled from, or were otherwise present within, Uganda only land at one of the following airports:

• Hartsfield-Jackson Atlanta International Airport (ATL), Georgia;

• Chicago O'Hare International Airport (ORD), Illinois;

• Newark Liberty International Airport (EWR), New Jersey;

• John F. Kennedy International Airport (JFK), New York;

• Washington-Dulles International Airport (IAD), Virginia;

This direction considers a person to have recently traveled from Uganda if that person departed from, or was otherwise present within, Uganda within 21 days before the date of the person's entry or attempted entry into the United States. Also, for purposes of this document, crew and flights carrying only cargo (i.e., no passengers or non-crew), are excluded from the applicable measures set forth in this notification. This direction is subject to any changes to the airport landing destination that may be required for aircraft and/or airspace safety, as directed by the Federal Aviation Administration.

This list of designated airports may be modified by the Secretary of Homeland Security in consultation with the Secretary of Health and Human Services and the Secretary of Transportation. This list of designated airports may be modified by an updated publication in the Federal Register or by posting an advisory to follow at www.cbp.gov. The restrictions will remain in effect until superseded, modified, or revoked by publication in the Federal Register.

For purposes of this Federal Register document, “United States” means the territory of the several States, the District of Columbia, and Puerto Rico.

Alejandro N. Mayorkas,
Secretary, U.S. Department of Homeland Security.

[FR Doc. 2022-22264 Filed 10-7-22; 4:15 pm]

BILLING CODE 9111-14-P